DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (“we”) solicits review and comment from local, State, and Federal agencies, and the public on the following permit requests.

DATES: Comments on these permit applications must be received on or before February 9, 2005.

ADDRESSES: Written data or comments should be submitted to the U.S. Fish and Wildlife Service, Chief, Endangered Species, Ecological Services, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION:

Permit No. TE-036034

Applicant: Tierra Data Inc., Escondido, California

The permittee requests an amendment to remove/reduce to possession (collect) Allium munzii (Munz's onion), Astragalus brauntonii (Braunton's milk-vetch), and Eryngium aristulatum var. parishii (San Diego button-celery) in conjunction with surveys in Orange County, California, for the purpose of enhancing their survival.

Permit No. TE-096454

Applicant: Russell Williams, Murrieta, California

The applicant requests a permit to take (survey by pursuit) the Quino checkerspot butterfly (Euphydryas editha quino) in conjunction with surveys throughout the range of the species in California for the purpose of enhancing its survival.

Permit No. TE-096466

Applicant: San Bernardino National Forest, Big Bear City, California

The applicant requests a permit to take (survey by pursuit) the Quino checkerspot butterfly (Euphydryas editha quino) in conjunction with surveys in Riverside and San Bernardino Counties, California, for the purpose of enhancing its survival.

Permit No. TE-096456

Applicant: Garvin Hoefler, Soquel, California

The applicant requests a permit to take (survey by pursuit) the Santa Cruz long-toed salamander (Ambystoma macrodactylum croceum) in conjunction with surveys in Santa Cruz, Monterey, Santa Clara, and San Benito Counties, California, for the purpose of enhancing its survival.

Permit No. TE-086593

Applicant: Arizona Cooperative Fish and Wildlife Research Unit, Tucson, Arizona

The applicant requests a permit to take (capture and collect) the Owens tui chub (Gila bicolor snyderi) and the Owens pupfish (Cyprinodon radiosus) in conjunction with parasite research in San Bernardino County, California, for the purpose of enhancing their survival.

Permit No. TE-075112

Applicant: Gregory Chatman, Rialto, California

The applicant requests a permit to take (survey by pursuit) the Quino checkerspot butterfly (Euphydryas editha quino) in conjunction with surveys throughout the range of the species in California for the purpose of enhancing its survival.

Permit No. TE-097516

Applicant: Ryan Thomas, Pasadena, California

The applicant requests a permit to take (harass by survey and monitor nests) the southwestern willow flycatcher (Empidonax traillii extimus) and the California least tern (Sterna autillarum browni), take (locate and monitor nests) the least Bell's vireo (Vireo bellii pusillus), and take (harass by survey) the California clapper rail (Rallus longirostris obsoletus) and the light-footed clapper rail (Rallus longirostris levipes) in conjunction with surveys throughout the range of each species in California for the purpose of enhancing their survival.

Permit No. TE-097845

Applicant: SRS Technologies, Lompoc, California

The applicant requests a permit to take (harass by survey and monitor nests) the southwestern willow flycatcher (Empidonax traillii extimus) and the California least tern (Sterna autillarum browni), take (locate and monitor nests) the least Bell's vireo (Vireo bellii pusillus), take (capture, handle, and release) the arroyo toad (Bufo californicus), and take (harass by survey, capture, handle, and release) the tidewater goby (Eucyclogobius newberryi) and the unarmored threespine stickleback (Gasterosteus aculeatus williamsoni) in conjunction with surveys in Santa Barbara County, California, for the purpose of enhancing their survival.

We solicit public review and comment on each of these recovery permit applications.

Michael B. Fris,
Acting Manager, California/Nevada Operations Office, U.S. Fish and Wildlife Service.

[FR Doc. 05-412 Filed 1-7-05; 8:45 am]

BILLING CODE 4310-55-P